DEPARTMENT OF ENERGY

Chicago Operations Office, Office of Transportation Technologies; Notice of Availability of a Financial Assistance Solicitation for Cooperative Agreement Applications for Advanced Liquid Natural Gas Onboard Storage Systems

AGENCY: Chicago Operations Office, DOE.

ACTION: Notice of solicitation availability.

SUMMARY: The Department of Energy (DOE) announces its interest in receiving applications for research and development in the area of Advanced Liquid Natural Gas (LNG) Onboard Storage Systems (ALOSS). This solicitation will be for Phase I applications only but will describe some aspects of possible Phase II awards as reference information. Phase I activities will provide laboratory proof-of-concept of an ALOSS. Tasks under this phase should cover: component and subsystem fabrication, setup of laboratory test stand, component testing, and pilot scale test of the ALOSS. Phase II activities, if awarded, will involve tank certification testing and road testing. (Phase I awardees will be eligible to compete for Phase II funding, which will be based on availability of funds, test data, design and market plan.) It is anticipated that the Phase I efforts will take place over a twelve month period under a cooperative agreement arrangement. DOE expects that one or two cooperative agreements will result from the solicitation. Total Government funding is expected to be approximately $500,000 for all Phase I awards combined. Successful applicants are required to cost share a minimum of 20% of the project cost. It is anticipated that award(s) as a result of the solicitation will be made in September of 2002. It is further anticipated that Phase II funding for this project will be available in the FY2003 budget.

DATES: The solicitation will be available on DOE's “Industry Interactive Procurement System” (IIPS) Web page located at http://e-center.doe.gov on or about June 7, 2002. Prospective applicants are therefore advised to check the above Internet address on a daily basis. All applications must be submitted through IIPS in accordance with the instructions found in the solicitation and the IIPS User Guide, which can be obtained by going to the IIPS Secured Services site at http://e-center.doe.gov under the “HELP” section of the website. Applicants must register in IIPS prior to submitting an application. Only registered users will have the capability to transmit their applications in a responsive matter. Applicants are strongly encouraged to register with IIPS as soon as possible prior to the application deadline. All applications must have an IIPS transmission time stamp of not later than 11:59 p.m. Eastern Time on the date specified in the solicitation, which is expected to be on or about July 10, 2002. Applicants are advised to begin transmission 24 hours in advance of the deadline in order to prevent any transmission difficulties.

ADDRESSES: The solicitation and any subsequent amendments will be published at the above mentioned Internet address. All applications shall be submitted through IIPS in accordance with the instructions provided in the solicitation.

FOR FURTHER INFORMATION CONTACT: Sharon L. Donaldson, 630/252-0953.

SUPPLEMENTARY INFORMATION: The solicitation, when issued, will include a narrative scope of work, program requirements, qualification criteria, evaluation criteria, and other information. The purpose of this solicitation is to invite interested parties to submit an application for cost-shared cooperative agreements with the Department of Energy (DOE) for research and development of Advanced Liquid Natural Gas (LNG) Onboard Storage Systems (ALOSS) for natural gas vehicles. The solicitation is to accelerate research, development and testing of novel LNG storage technologies that would increase the vehicle's driving range, improve its efficiency and durability, and lower evaporative emissions and costs. The major barrier to using natural gas as a vehicle fuel is the problem of storing sufficient quantities of natural gas onboard the vehicle. The storage of natural gas in its compressed state (CNG) is viable for some vehicles, but does not meet the needs of most Class 7 and 8 trucks and buses. Since Class 7 and 8 trucks and buses use nearly 40% of the country's transportation fuel, it is an important market sector to DOE's Office of Transportation Technologies. By using LNG, the storage problem can be solved. The storage of natural gas in its liquid rather than compressed state increases the driving range of a vehicle by 300%.

The use of LNG introduces the complexity of dealing with a cryogenic liquid. This approach is not new, because the first LNG-fueled buses used cryogenic pumps. However, the technology was later abandoned because of problems relating to durability, consistency of fuel delivery, and excessive vapor venting. In spite of the known problems of using LNG with cryogenic pumps, the benefits are sufficient to warrant revisiting its use. The goal of this solicitation is to reduce the overall complexity of LNG through the development of a simple and reliable onboard cryogenic pump.

The benefits of using a cryogenic pump with low-pressure LNG storage are that it: increases usable fuel in the tank by 25%, eliminates the need for fuel conditioning, simplifies the operation of the refueling station, reduces the atmospheric venting of natural gas, reduces connector leaks, and has the ability to supply fuel to all types of natural gas engines from high pressure direct injected to aspirated. Some of the risks and/or challenges of using an onboard cryogenic pump include: keeping the pump cold at all times, durability, thermal management, meeting transient loads, redundancy, cavitation, and costs.

This solicitation seeks a solution to the problems and challenges described so that the benefits noted above can be realized. DOE's long-term goal is to improve LNG vehicles so that they capture a greater share of the transportation fuel market and thereby lessen U.S. dependency on imported oil.

Once released, the solicitation will be available for downloading from the IIPS Internet page. At this Internet site you will also be able to register with IIPS, enabling you to submit an application. If you need technical assistance in registering or for any other IIPS function call the IIPS Help Desk at (800) 683-0751 or E-mail the Help Desk personnel at IIPS_HelpDesk@e-center.doe.gov. The solicitation will only be made available in IIPS; no hard (paper) copies of the solicitation and related documents will be made available.

Issued in Argonne, Illinois, on May 20, 2002.
John D. Greenwood,
Assistant Manager for Acquisition and Assistance.

[FR Doc. 02-14191 Filed 6-5-02; 8:45 am]

BILLING CODE 6450-01-P